NUCLEAR REGULATORY COMMISSION

[Docket No. 72-1050; NRC-2016-0231]

Interim Storage Partners Consolidated Interim Storage Facility Project

AGENCY: Nuclear Regulatory Commission.

ACTION: Draft environmental impact statement; extension of comment period.

SUMMARY: On May 8, 2020, the U.S. Nuclear Regulatory Commission (NRC)

issued for public comment a draft Environmental Impact Statement (EIS) for Interim Storage Partners' (ISP's) license application to construct and operate a consolidated interim storage facility (CISF) for spent nuclear fuel (SNF) and Greater-Than Class C (GTCC) waste, along with a small quantity of mixed oxide fuel. The public comment period was originally scheduled to close on September 4, 2020. Given recent events associated with the COVID-19 public health emergency, the NRC has decided to extend the public comment period to allow more time for members of the public to develop and submit their comments.

DATES: The due date of comments requested in the document published on May 8, 2020 (85 FR 27447) is extended. Comments should be filed no later than November 3, 2020. Comments received after this date will be considered, if it is practical to do so, but the Commission is able to ensure consideration only for comments received on or before this date.

ADDRESSES: You may submit comments by any of the following methods:

• Federal Rulemaking website: Go to https://www.regulations.gov/ and search for Docket ID NRC-2016-0231. Address questions about NRC Docket IDs to Jennifer Borges; telephone: 301-287-9127; email: Jennifer.Borges@nrc.gov. For technical questions, contact the individual listed in the FOR FURTHER INFORMATION CONTACT section of this document.

• Mail comments to: Office of Administration, Mail Stop: TWFN-7-A60M, ATTN: Program Management, Announcements and Editing Staff, U.S. Nuclear Regulatory Commission, Washington, DC 20555-0001.

• Email comments to: WCS_CISF_EIS@nrc.gov.

For additional direction on obtaining information and submitting comments, see “Obtaining Information and Submitting Comments” in the SUPPLEMENTARY INFORMATION section of this document.

FOR FURTHER INFORMATION CONTACT: James Park, Office of Nuclear Material Safety and Safeguards, U.S. Nuclear Regulatory Commission, Washington, DC 20555-0001; telephone: 301-415-6954; email: James.Park@nrc.gov.

SUPPLEMENTARY INFORMATION:

I. Obtaining Information and Submitting Comments

A. Obtaining Information

Please refer to Docket ID NRC-2016-0231 when contacting the NRC about the availability of information regarding this document. You may obtain publicly-available information related to this action by the following methods:

• Federal Rulemaking website: Go to https://www.regulations.gov and search for Docket ID NRC-2016-0231. An electronic copy of the draft EIS has been posted under Docket ID NRC-2016-0231 as supporting material.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The draft EIS is available in ADAMS under Accession No. ML20122A220.

• Project web page: Information related to the ISP CISF project can be accessed on the NRC's ISP CISF web page at https://www.nrc.gov/waste/spent-fuel-storage/cis/waste-control-specialist.html.

• Public Libraries: A Web link to the electronic copy of the draft EIS has been made available at the following public library websites:

• Eunice Public Library: https://www.cityofeunice.org/134/Library-Services, under “U.S. Nuclear Regulatory Commission Information.”

• Hobbs Public Library: http://www.hobbspubliclibrary.org/, under “News & Updates.”

• Andrews County Library: https://www.andrews.lib.tx.us/news-events, under “News & Events.”

B. Submitting Comments

Please include Docket ID NRC-2016-0231 in your comment submission. Written comments may be submitted during the draft EIS comment period as described in the ADDRESSES section of the document.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On May 8, 2020, the NRC issued for public comment a draft EIS for ISP's license application to construct and operate a CISF for SNF and GTCC waste, along with a small quantity of mixed oxide fuel. The proposed CISF would be located on an approximately 130-hectare (320-acre) site, within the approximately 5,666-hectare (14,000-acre) Waste Control Specialists site in Andrews County, Texas. The proposed action is the issuance of an NRC license authorizing a CISF to store up to 5,000 metric tons of uranium (MTUs) [5,500 short tons] of SNF for a license period of 40 years. ISP plans to subsequently request amendments to the license to store an additional 5,000 MTU for each of seven expansion phases of the proposed CISF (a total of eight phases), to be completed over the course of 20 years. The proposed facility could eventually store up to 40,000 MTUs [44,000 short tons] of SNF.

The draft EIS for ISP's license application includes the NRC staff's preliminary analysis that evaluates the environmental impacts of the proposed action and the No-Action alternative to the proposed action. After comparing the impacts of the proposed action to those of the No-Action alternative, the NRC staff, in accordance with the requirements in part 51 of title 10 of the Code of Federal Regulations, recommends the proposed action, which is the issuance of an NRC license to ISP to construct and operate a CISF at the proposed location to temporarily store up to 5,000 MTUs [5,500 short tons] of SNF for a licensing period of 40 years. This recommendation is based on (i) the ISP license application, which includes the environmental report and supplemental documents, and ISP's responses to the NRC staff's requests for additional information; (ii) the NRC staff's consultation with Federal, State, Tribal, and local agencies and input from other stakeholders; (iii) the NRC staff's independent review; and (iv) the NRC staff's assessments provided in the EIS.

The public comment period was originally scheduled to close on September 4, 2020. The NRC has decided to extend the public comment until November 3, 2020, to allow more time for members of the public to submit their comments. Comments of Federal, State, and local agencies, Indian Tribes or other interested persons will be made available for public inspection when received.

Dated: July 16, 2020.
For the Nuclear Regulatory Commission.
Jessie M. Quintero,
Acting Chief, Environmental Review Materials Branch, Division of Rulemaking, Environmental, and Financial Support, Office of Nuclear Material Safety, and Safeguards.

[FR Doc. 2020-15809 Filed 7-21-20; 8:45 am]

BILLING CODE 7590-01-P